DEPARTMENT OF TRANSPORTATION

Federal Aviation Administration

Second Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held June 21-23, 2005, starting at 9 a.m.

ADDRESSES: The meeting will be held at ARINC, Lower Level Conference Room, 2551 Riva Road, Building 6, Annapolis, MD 21401-7435.

FOR FURTHER INFORMATION CONTACT: (1) RTCA Secretariat, 1828 L Street, NW., Suite 805, Washington, DC 20036; telephone (202) 833-9339; fax (202) 833-9434; Web site http://www.rtca.org; ARINC Contact: Mrs. Ingrid Lemon; telephone (410) 266-4176 or (800) 492-2186 ext. 4176; e-mail iel@arinc.com.

Note: Foreign National attendees are required to fax the inside copy of their passport, which shows photo identification to Mrs. Ingrid Lemon at (410) 266-2049, no later than June 10, 2005. Also, indicate that you will be attending the SC-203 Plenary #3, and what company you represent. Additionally, Foreign National will be required to present their passport for admission to ARINC for the meeting.

All attendees must show government issued photo ID, activate your cell phone for a security check and be prepared to provide the information below if entering ARINC with a notebook computer:

1. Full Name.

2. Work phone number.

3. Dates planned at ARINC.

4. Laptop description (Dell, Toshiba, HP, etc).

5. Item owner (company or personal).

6. Serial number.

To expedite this process, please fax or e-mail computer information in advance to Ms. Lemon at (410) 266-2049 or iel@arinc.com.

SUPPLEMENTARY INFORMATION: Pursuant to section 10(a)(2) of the Federal Advisory Committee Act (Pub. L. 92-463, 5 U.S.C., Appendix 2), notice is hereby given for a Special Committee 203 meeting. The agenda will include:

• June 21:

• Opening Plenary Session (Welcome and Introductory Remarks, Approval of Second Plenary Summary, Review SC-203 Progress Since Second Plenary, New Business, Plenary Adjourns).

• Sub-Group Writing Teams in working sessions.

• June 22:

• Sub-Group Writing Teams in working sessions.

• June 23:

• Sub-Group Writing Teams in working sessions.

• Closing Plenary Session (Writing Teams Report Out, Review Writing Team Actions Items, Other Business Date and Place of Next Meeting, Review Plenary Action Items, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 18, 2005.
Natalie Ogletree,
FAA General Engineer, RTCA Advisory Committee.

[FR Doc. 05-10721 Filed 5-27-05; 8:45 am]

BILLING CODE 4910-13-M